DEPARTMENT OF COMMERCE

National Oceanic and Atmospheric Administration

New Policy Announcing That Traditional Horizontal Survey Projects Performed With Terrestrial Survey Techniques Will No Longer Be Accepted for Processing or Loading Into NGS Databases

AGENCY: National Geodetic Survey (NGS), National Ocean Service (NOS), National Oceanic and Atmospheric Administration (NOAA).

ACTION: Informational Notice.

SUMMARY: Beginning January 1, 2011 the National Geodetic Survey (NGS) will cease accepting data, all orders and classes, from triangulation and traverse geodetic surveys as they are described in the Federal Geodetic Control Committee September 1984 “Standards and Specifications for Geodetic Control Networks” for inclusion into the NGS Integrated Data Base (NGSIDB).

FOR FURTHER INFORMATION CONTACT: Requests for additional information should be directed to Mr. Mark Eckl, Observation and Analysis Division Chief, National Geodetic Survey (N/NGS4), 1315 East-West Highway, Silver Spring, MD 20910; Phone: (301) 713-3176 x 117; E-mail: mark.eckl@noaa.gov.

SUPPLEMENTARY INFORMATION: The National Geodetic Survey has not received a traditional (triangulation or traverse) survey for purely horizontal work since 2006. All horizontal surveys relevant to the mission of NGS performed by individuals external to NGS are now performed with GPS. The maintenance of computer software and hardware dedicated to traditional horizontal surveys requires use of resources that are limited and will be used more appropriately elsewhere.

Dated: September 1, 2010.
Juliana P. Blackwell,
Director, Office of National Geodetic Survey, National Ocean Service, National Oceanic and Atmospheric Administration.

[FR Doc. 2010-23356 Filed 9-17-10; 8:45 am]

BILLING CODE 3510-JE-P